Title 3—

The President

Proclamation 8910 of November 30, 2012

Critical Infrastructure Protection and Resilience Month, 2012

By the President of the United States of America

A Proclamation

Every day, Americans across our country—from entrepreneurs and college students to families and community leaders—rely on critical infrastructure to travel and communicate, work and play. The assets and systems we depend on are essential to our way of life, and during Critical Infrastructure Protection and Resilience Month, we maintain our commitment to keeping our critical infrastructure and our communities safe and resilient.

Our Nation's critical infrastructure is complex and interconnected, and we must understand not only its strengths, but also its vulnerabilities to emerging threats. Cyber incidents can have devastating consequences on both physical and virtual infrastructure, which is why my Administration continues to make cybersecurity a national security priority. As we continue to work within existing authorities to fortify our country against cyber risks, comprehensive legislation remains essential to improving infrastructure security, enhancing cyber information sharing between government and the private sector, and protecting the privacy and civil liberties of the American people.

Physical threats also put our Nation's most important assets at risk. Destruction caused by devastating storms and other natural disasters this year underscored our reliance on our critical infrastructure. Yet, these tragic events also demonstrated once again the strength and resolve of the American people when we work together to recover and rebuild. As long as we keep fortifying partnerships between Federal, State, and local governments and among community leaders and the private sector, we can continue to modernize our critical infrastructure and bolster our ability to overcome whatever challenges we may face.

All Americans have a part to play in protecting our critical infrastructure and making it more resilient, and my Administration continues to engage stakeholders in doing what it takes to keep our people safe and our assets secure. This month, we rededicate ourselves to raising awareness of the importance of critical infrastructure and to doing all we can to protect it. Americans can learn more about how they can get involved by visiting www.Ready.gov.

NOW, THEREFORE, I, BARACK OBAMA, President of the United States of America, by virtue of the authority vested in me by the Constitution and the laws of the United States, do hereby proclaim December 2012 as Critical Infrastructure Protection and Resilience Month. I call upon the people of the United States to recognize the importance of protecting our Nation's resources and to observe this month with appropriate events and training to enhance our national security and resilience.

IN WITNESS WHEREOF, I have hereunto set my hand this thirtieth day of November, in the year of our Lord two thousand twelve, and of the Independence of the United States of America the two hundred and thirty-seventh.

[FR Doc. 2012-29573

Filed 12-4-12; 11:15 am]

Billing code 3295-F3